DEPARTMENT OF TRANSPORTATION

Federal Railroad Administration

[Docket Number FRA-2013-0089]

Petition for Waiver of Compliance

In accordance with Part 211 of Title 49 Code of Federal Regulations (CFR), this document provides the public notice that by a document dated August 4, 2013, 1003 Operations LLP has petitioned the Federal Railroad Administration (FRA) for a waiver of compliance from certain provisions of the Federal railroad safety regulations contained at 49 CFR Part 224, Reflectorization of Rail Freight Rolling Stock. FRA assigned the petition Docket Number FRA-2013-0089.

The 1003 Operations LLP partnership located in Long Grove, IL, owns Steam Locomotive SOO Line 1003, as well as historic freight cars and cabooses. The partnership leases its equipment to the Steam Locomotive Heritage Association (SLHA) based in Hartford, WI. The three cars that 1003 Operations LLP owns are: LLTX 10559 (insulated boxcar); LLTX 2012 (caboose); and LLTX 268 (caboose), which are not equipped with reflectorization per 49 CFR Part 224. The 1003 Operations LLP partnership requests that it be granted a waiver of compliance from 49 CFR Part 224, because the retroreflective sheeting applied would detract from the equipment's historic preservation and appearance.

A copy of the petition, as well as any written communications concerning the petition, is available for review online at http://www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 15, 2013, will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC.
Robert C. Lauby,
Deputy Associate Administrator for Regulatory and Legislative Operations.

[FR Doc. 2013-21693 Filed 9-5-13; 8:45 am]

BILLING CODE 4910-06-P